DEPARTMENT OF HEALTH AND HUMAN SERVICES

Food and Drug Administration

[Docket No. FDA-2010-N-0085]

Preventive Controls for Fresh Produce; Request for Comments; Extension of the Comment Period

AGENCY: Food and Drug Administration, HHS.

ACTION: Notice; extension of the comment period.

SUMMARY: The Food and Drug Administration (FDA) is extending to July 23, 2010, the comment period for a notice that appeared in the Federal Register of February 23, 2010 (75 FR 8086). In that notice, FDA established a docket to obtain comments and information about current practices and conditions for the production and packing of fresh produce. The agency is extending this comment period to give interested parties additional time to provide the information requested by FDA in that notice.

DATES: Submit electronic or written comments by July 23, 2010.

ADDRESSES: Submit electronic comments to http://www.regulations.gov. Submit written comments to the Division of Dockets Management (HFA-305), Food and Drug Administration, 5630 Fishers Lane, rm. 1061, Rockville, MD 20852.

FOR FURTHER INFORMATION CONTACT: Michelle A. Smith, Center for Food Safety and Applied Nutrition (HFS-317), Food and Drug Administration, 5100 Paint Branch Pkwy., College Park, MD 20740-3835, 301-436-2024.

SUPPLEMENTARY INFORMATION:

I. Background

In the Federal Register of February 23, 2010 (75 FR 8086), FDA announced the opening of a docket to obtain information about current practices and conditions for the production and packing of fresh produce. FDA established this docket to provide an opportunity for interested persons to provide comments and information and share views that will inform the development of safety standards for fresh produce at the farm and packing house and strategies and cooperative efforts to ensure compliance.

FDA is extending the comment period until July 23, 2010. The agency believes that this additional time is necessary to give interested parties sufficient time to respond to the general topic categories set forth in the February notice.

The agency will consider information submitted to the docket in developing safety standards for fresh produce.

II. Request for Comments

Interested persons may submit to the Division of Dockets Management (see ADDRESSES) either electronic or written comments regarding this document. It is only necessary to send one set of comments. It is no longer necessary to send two copies of mailed comments. Identify comments with the docket number found in brackets in the heading of this document. Received comments may be seen in the Division of Dockets Management between 9 a.m. and 4 p.m., Monday through Friday.

Dated: May 17, 2010.
Leslie Kux,
Acting Assistant Commissioner for Policy.

[FR Doc. 2010-12081 Filed 5-19-10; 8:45 am]

BILLING CODE 4160-01-S